DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on proposed revisions and three-year extensions to the Forms EIA-1, “Weekly Coal Monitoring Report—General Industries and Blast Furnaces” (Standby); EIA-3, “Quarterly Coal Consumption and Quality Report—Manufacturing Plants;” EIA-4, “Weekly Coal Monitoring Report—Coke Plants” (Standby); EIA-5, “Quarterly Coal Consumption and Quality Report—Coke Plants;” EIA-6A, “Coal Distribution Report;” EIA-6Q (Schedule Q), “Quarterly Coal Report” (Standby); EIA-7A, “Coal Production Report;” and EIA-20, “Weekly Telephone Survey of Coal Burning Utilities” (Standby). The Standby forms are designed to be utilized under certain emergency conditions.

DATES: Comments must be filed by December 6, 2004. If you anticipate difficulty in submitting comments within that period, contact the person listed below as soon as possible.

ADDRESSES: Send comments to William Watson. To ensure receipt of the comments by the due date, submission by FAX (202-287-1934) or e-mail (william.watson@eia.doe.gov) is recommended. The mailing address is Coal, Nuclear, and Renewables Division, EI-52, Forrestal Building, U.S. Department of Energy, Washington, DC 20585. Alternatively, William Watson may be contacted by telephone at 202-287-1971.

FOR FURTHER INFORMATION CONTACT: Requests for additional information or copies of any forms and instructions should be directed to William Watson at the address listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

EIA conducts coal surveys to collect information on coal production, distribution, receipts, consumption, quality, stocks, and prices. This information is used to support public policy analyses of the coal industry and is published in various EIA publications, including the Annual Coal Report, the Annual Energy Review, the Monthly Energy Review, and the Quarterly Coal Report. Respondents to the coal surveys include coal producers, coal distributors, and coal consumers.

Please refer to the proposed forms and instructions for more information about the purpose, who must report, when to report, where to submit, the elements to be reported, detailed instructions, provisions for confidentiality, and uses (including possible nonstatistical uses) of the information. For instructions on obtaining materials, see the FOR FURTHER INFORMATION CONTACT section.

II. Current Actions

EIA will be requesting a three-year extension of approval for all its coal surveys with changes proposed to Forms EIA-3, EIA-5, EIA-6A, and EIA-7A. EIA will not propose any changes to Forms EIA-1, EIA-4, EIA-6Q, and EIA-20 (all standby forms). The proposed changes to Forms EIA-3, EIA-5, EIA-6A, and EIA-7A are described below:

Form EIA-3 (Quarterly Coal Consumption and Quality Report—Manufacturing Plants)

Starting in 2000, coal synfuel plants began to be a significant new user of coal. (A coal synfuel plant is a facility where freshly-mined coal or recovered waste coal is sprayed with binders and heated to produce synthetic fuel). In 2001 and subsequent years, EIA added coal synfuel plants to the list of respondents to which it sent Form EIA-3, “Quarterly Coal Consumption and Quality Report—Manufacturing Plants.” In the latest completed reporting year, 2003, coal received by coal synfuel plants reached more than 115 million tons annually, compared to about 60 million tons received annually at other manufacturing facilities. However, coal synfuel plants are not the final consumers of the coal. Coal synfuel is distributed or sold to final consumers such as electric generation plants, other manufacturing plants, coke plants, and exported.

To understand the final disposition of coal it is necessary to have data on the amount of coal synfuel distributed or sold by coal synfuel plants to each major end-use sector. Accordingly, EIA proposes to add a new schedule to the EIA-3 to collect data from coal synfuel plants on the quantity (short tons) of coal synfuel distributed or sold by type of end-use consumer (e.g., electric generation, manufacturing plant, coke plant, export) and by destination State.

EIA would make the data on coal synfuel final disposition available to the public on EIA's website starting in 2005 quarter 1 as part of the Quarterly Coal Report. Currently, EIA is not collecting these data in any other survey and, therefore, is not providing these data in any EIA publication available to the public. The new data tables would complete the set of information needed to understand the overall disposition of U.S. coal.

EIA uses an Internet Data Collection system to collect data for the EIA-3 form. Currently, all coal synfuel plants submit their data on coal receipts and coal use (but not distribution) to the EIA through the Internet Data Collection system. The additional schedule would be made available only to coal synfuel plants through the Internet Data Collection system and would make it possible for coal synfuel plants to submit the additional proposed data with minimal effort.

EIA would extend and reorganize the instructions that accompany the EIA-3 form to assist coal synfuel respondents. EIA would prepare and provide a Visual Guide to the extended internet data collection form.

EIA proposes to make additional minor revisions to the EIA-3 instructions (existing section D) to list the various modes by which respondents can submit the data form, to include information on Internet Data Collection, Secure File Transfer, mail, E-mail, and facsimile. Transport mode options will be expanded to include two additional categories: (1) Transport by ship on the Great Lakes and (2) transport by tramway or conveyor. These choices will clarify transport mode so that more accurate records can be kept by EIA.

Form EIA-5 (Quarterly Coal Consumption and Quality Report—Coke Plants)

EIA proposes to make additional minor revisions to the EIA-5 instructions (existing section D) to list the various modes by which respondents can submit the data form, to include information on Internet Data Collection, Secure File Transfer, mail, E-mail, and facsimile. Transport mode options will be expanded to include two additional categories: (1) Transport by ship on the Great Lakes and (2) transport by tramway or conveyor. These choices will clarify transport mode so that more accurate records can be kept by EIA.

Form EIA-6A (Coal Distribution Report)

On its EIA-6A data form, EIA collects data on the amount of coal distributed by coal producers and distributors to various aggregate consumer types such as electric generators, manufacturing plants, coke plants, and other sectors. The EIA-6A instructions request that respondents include coal distributions to coal synfuel plants as part of “Manufacturing.” Currently, the use of coal at coal synfuel plants represents about twice the volume of coal used by other manufacturing plants (115 million tons vs. 60 million tons annually). In feedback to EIA, data users have noted the relatively large amount of coal used by coal synfuel plants. EIA has determined that better understanding of the overall disposition of coal would be improved if coal distributed to coal synfuel plants was not aggregated with coal distributed to other manufacturing plants. Accordingly, EIA proposes to add a new consumer type, Coal Synfuel plants, to the EIA-6A form and request that respondents use that consumer type rather than “Manufacturing” when reporting coal distributed to coal synfuel plants. The form instructions would be modified to include the new consumer type.

The EIA-6A data are published annually on the EIA website in table format. The published distribution tables would be modified to break out coal synfuel plants as a separate aggregate sector. Consequently, data users would be able to understand how much coal is distributed to coal synfuel plants, as distinct from the coal distributed to other manufacturing facilities.

Because coal synfuel plants receive relatively large amounts of coal and are few in number (55 coal synfuel plants compared to 475 coal-using manufacturing plants) EIA-6A producer and distributor respondents most likely know when coal is being distributed or sold to coal synfuel plants. Consequently, EIA does not anticipate any change in respondent requirements to report data for the new coal synfuel plant consumer type.

EIA proposes to make additional minor revisions to the EIA-6A instructions (existing section III) to list the various modes by which respondents can submit the data form, to include information on Internet Data Collection, mail, and facsimile.

Form EIA-7A (Coal Production Report)

EIA proposes to simplify the instructions for entering datum in Section J. Facility Location.

EIA publishes data on open market sales (quantity and average sales price) that do not distinguish among various open market consumer classes. However, Section V of the current EIA-7A data form asks respondents to report open market sales to two classes of consumers: coal mining companies and coal dealers as one class and all other consumers as a second class. Because the data by individual class are not published (only aggregate data are published), EIA proposes to collapse the two classes of open market sales to a single open market sale category.

III. Request for Comments

Prospective respondents and other interested parties should comment on the actions discussed in Item II. The following guidelines are provided to assist in the preparation of comments. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for each of the coal surveys is shown below as an average hour(s) per response. The estimated burden includes the total time necessary to provide the requested information. In your opinion, how accurate is this estimate?

—Form EIA-1, “Weekly Coal Monitoring Report—General Industries and Blast Furnaces” (Standby); 1.0 hour per response (no change from existing estimate of 1 hour)

—Form EIA-3, “Quarterly Coal Consumption and Quality Report—Manufacturing Plants;”

1 hour per response, manufacturing plants (no change from existing estimate of 1 hour).

1.5 hours per response, coal synfuel plants (new schedule for respondent, existing estimate without new schedule is 1 hour).

—Form EIA-4, “Weekly Coal Monitoring Report—Coke Plants” (Standby); 1.0 hour per response (no change from existing estimate of 1 hour)

—Form EIA-5, “Quarterly Coal Consumption and Quality Report—Coke Plants;” 1.5 hours per response (no change from existing estimate of 1.5 hours)

—Form EIA-6A, “Coal Distribution Report;” 5.0 hours per response (no change from existing estimate of 5.0 hours)

—Form EIA-6Q, ‘Quarterly Coal Report” (Standby); 1 hour per response (no change from existing estimate of 1 hour)

—Form EIA-7A, “Coal Production Report;” 1 hour per response (no change from existing estimate of 1 hour)

—Form EIA-20, “Weekly Telephone Survey of Coal Burning Utilities” (Standby) 1 hour per response (no change from existing estimate of 1 hour)

Forms EIA-1, 4, 6Q, and 20 are Standby surveys. The above estimates reflect the anticipated burden per response in the event these surveys are implemented.

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. Chapter 35).

Issued in Washington, DC, September 29, 2004.
Jay H. Casselberry,
Agency Clearance Officer, Statistics and Methods Group, Energy Information Administration.

[FR Doc. 04-22424 Filed 10-5-04; 8:45 am]

BILLING CODE 6450-01-U